DEPARTMENT OF AGRICULTURE

Forest Service

RIN 0596-AC02

National Forest System Land Management Planning Directives

AGENCY: Forest Service, USDA.

ACTION: Notice of issuance of agency interim directives; request for comment.

SUMMARY: The Forest Service has issued twelve (12) interim directives to Forest Service Manuals 1330, 1900, and 1920 and Forest Service Handbook 1909.12 establishing procedures and responsibilities for implementing the National Forest land management planning regulation set out at 36 CFR part 219. The planning regulation was published in the Federal Register on January 5, 2005 (70 FR 1023). The intended effect of issuance of these IDs is to provide consistent overall guidance to Forest Service line officers and agency employees in developing, amending, or revising land management plans for units of the National Forest System. Public comment is invited and will be considered in developing final directives.

DATES: Interim directive no. 1330-2005-1, 1900-2005-1, 1920-2005-1, 1909.12-2005-1, 1909.12-2005-2, 1909.12-2005-3, 1909.12-2005-4, 1909.12-2005-5, 1909.12-2005-6, 1909.12-2005-7, 1909.12-2005-8, and 1909.12-2005-9 is effective March 23, 2005. Comments must be received in writing by June 21, 2005.

ADDRESSES: Send written comments concerning these interim directives through one of the following methods: Federal Rulemaking Portal: http://www.regulations.gov. Follow the instructions for submitting comments; E-mail: planningdirectives @contentanalysis group.com. Include “RIN 0596-AC02” or “planning directives” in the subject line of the message. Fax: (801) 397-2601. Please identify your comments by including “RIN 0596-AC02” or “planning directives” on the cover sheet or the first page. Mail: USDA Forest Service Planning Directives, c/o Content Analysis Group, PO Box 2000, Bountiful, UT 84011-2000. For detailed instructions on submitting comments and additional information on the rulemaking process, see the “Public Participation” heading in the SUPPLEMENTARY INFORMATION section of this notice.

FOR FURTHER INFORMATION CONTACT: Regis Terney, Planning Specialist, Ecosystem Management Coordination Staff (202) 205-1552.

SUPPLEMENTARY INFORMATION:

Public Participation

Please note that the Forest Service will not be able to receive hand-delivered comments. If you intend to submit comments in batched e-mails from the same server, please be aware that electronic security safeguards on Forest Service and Department of Agriculture computer systems for prevention of commercial spamming may limit batched e-mail access. The Forest Service is interested in receiving all comments on these interim directives (ID's). Therefore, please call (801) 517-1020 to facilitate transfer of comments in batched e-mail messages. Please note that all comments, including names and addresses when provided, will be placed in the record and will be available for public inspection and copying. The agency cannot confirm receipt of comments. Individuals wishing to inspect comments should call Jody Sutton at (801) 517-1020 to schedule an appointment.

These ID's are issued to Forest Service Manual (FSM) 1330, 1900 Zero Code, 1920; and Forest Service Handbook (FSH) 1909.12, chapters 10, 20, 30, 40, 50, 60, 70, and 80. Copies of the ID's are available on the World Wide Web/Internet at http://www.fs.fed.us/emc/nfma/index, or on a compact disc (CD). Copies of the directives on CD can be obtained by contacting Regis Terney by e-mail (rterney@fs.fed.us) or by phone at 1-866-235-6652 or 202-205-1552. Copies may also be obtained by contacting one of the following Regional Offices:

Northern Region: 200 E. Broadway, Federal Building, PO Box 7669, Missoula, MT 59807, (406) 329-3511, TTY Telephone: 406-329-3675.

Rocky Mountain Region: Street Address, 740 Simms St, Golden, CO 80401, Mailing address, PO Box 25127, Lakewood CO 80225-0127, 303-275-5350, TTY 303-275-5367.

Southwestern Region: 333 Broadway SE., Albuquerque, NM 87102, (505) 842-3292, TTY: (505) 842-3198.

Intermountain Region: 324 25th Street, Ogden, UT 84401, (801) 625-5306.

Pacific Southwest Region: 1323 Club Drive, Vallejo, CA 94592, 707-562-8737, TTY: 707-562-9130.

Pacific Northwest Region: PO Box 3623, 333 SW First Avenue, Portland, Oregon 97208-3623 USA, (503) 808-2468.

Southern Region: Attn: Public Affairs, 1720 Peachtree Rd, NW., Atlanta, GA 30309.

Eastern Region—R9: 626 East Wisconsin Ave., Milwaukee, WI 53202, Phone: (414) 297-3600, TTY: (414) 297-3507.

Alaska Region: PO Box 21628, Juneau, AK 99802-1628, (907) 586-8806, TTY: 907-586-7921.

Readers are encouraged to obtain a copy of the ID's to formulate their comments and provide input for the development of the final planning directives.

Background

On January 5, 2005, the Department adopted final planning regulations for the National Forest System at 36 CFR part 219, subpart A (70 FR 1023). This 2004 planning rule provides broad programmatic direction in developing and carrying out land management planning. The rule explicitly directs the Chief of the Forest Service to establish planning procedures in the Forest Service directives system (36 CFR 219.1(c)).

The Forest Service directives consist of the Forest Service Manual (FSM) and the Forest Service Handbook (FSH), which contain the agency's policies, practices, and procedures and serves as the primary basis for the internal management and control of programs and administrative direction to Forest Service employees. The directives for all agency programs are set out on the World Wide Web/Internet at http://www.fs.fed.us/im/directives.

Specifically, the FSM contains legal authorities, objectives, policies, responsibilities, instructions, and guidance needed on a continuing basis by Forest Service line officers and primary staff to plan and execute programs and activities. The FSH is the principal source of specialized guidance and instruction for carrying out the policies, objectives, and responsibilities contained in the FSM.

Need for Interim Direction

Procedural and technical details associated with implementing the 2004 planning rule at 36 CFR part 219 are needed immediately for units to be able to begin or adapt plan amendments or plan revisions. About 42 revision efforts are currently ongoing under the 1982 planning rule. The unit supervisors for all of these revisions have the option of transitioning to the 2004 planning rule. These ID's provide unit supervisors additional information so they may make an informed decision on whether to modify their existing planning processes to conform to the 2004 rule, or finish their revision efforts under the 1982 planning rule.

Likewise, about 4 to 5 units should be initiating their revision efforts this year. It is imperative that these units start off on the right foot in a consistent manner. This consistency is necessary so the American public that is interested in more than one unit, does not become confused and questions why units are revising plans differently.

Content of Interim Directives

The following is an overview of what the ID's contain related to land management planning.

Forest Service Manual

FSM 1330—New Management Strategies

The ID removes new perspectives in ecosystem management from the content of the chapter. FSM 1331 adds guidance for carrying out environmental management systems and how to conform to the consensus standard developed by the International Organization for Standardization (ISO) and adopted by the American National Standards Institute, as ISO 14001: Environmental Management Systems: Specification With Guidance For Use.

FSM 1900—Planning—Zero Code Chapter

In general, the zero code sections of the directive coding scheme are used to identify general instructions, such as authority, objectives, and policy that apply to all subsequent direction within the section where the zero code is set out. The ID to the zero code chapter changes definitions to make them consistent with the 2004 planning rule, removes direction on The Forest and Rangeland Renewable Resources Planning Act of 1974 (RPA) program, and replaces it with direction on the Forest Service's Strategic Plan.

FSM Chapter 1920—Land Management Planning

Section 1920.2—Objectives

The ID to this section revises objectives 1 through 3 to reflect the principles of the National Forest Management Act of 1976 (NFMA), including public participation, interdisciplinary approach, and multiple use. Objectives 4 and 5 update sustainability wording.

Section 1920.3—Objectives

The ID adds that the responsible official must conduct sustainability evaluations within an area large enough to consider broad-scale factors and trends over large landscapes when plans are prepared or revised.

Section 1920.4—Responsibility

The ID reserves the authority to the Chief to approve the schedule of plan revisions at FSM 1920.41.

Section 1921—Land Management Planning for 2004 Planning Rule

The ID changes the caption from “Regional Planning” to “Land Management Planning for 2004 Planning Rule.” FSM 1921.03b adds policy that project or activity decisions should not be included in plans. FSM 1921.04 adds responsibilities for Regional Foresters, Forest Supervisors, responsible officials, and District Rangers. FSM 1921.06 adds requirements for plan documents. FSM 1921.1 includes direction on what constitutes a plan and describes (1) desired conditions, (2) guidelines, (3) identification of areas generally suitable for various uses, (4) evaluation and monitoring, (5) National Forest Management Act requirements for vegetation management, (6) objectives, (7) resource integration requirements, and (8) special areas. FSM 1921.15 describes requirements for identification of areas generally suitable for various uses. FSM 1921.16 provides an exhibit on special designated areas, including designating official, and cross-references.

FSM 1921.17 adds a section on National Forest Management Act requirements. FSM 1921.17a adds requirements for vegetation management in carrying out site-specific projects. FSM 1921.17b adds requirements for vegetation management guidance in land management plans. FSM 1921.17c adds requirements for determining the general suitability of lands for timber harvest and identification of lands not suitable for timber production with reevaluation to occur every 10 years. FSM 1921.17d adds requirements for estimating long-term sustained-yield capacity (LTSYC) and limitation on timber harvest on “land where timber harvest could occur” to equal to or less than LTSYC, and exceptions to these limitations of timber harvest. This is a change in policy as existing policy calculates LTSYC from timber production lands only. FSM 1921.17e adds requirements for guidelines of maximum size limits for even-aged regeneration harvest. FSM 1921.17f adds requirements for guidelines of culmination of mean annual increment (CMAI) of growth and even-aged regeneration harvest and clarifies when CMAI concept does not apply. FSM 1921.17g adds requirements for timber management projections and other National Forest Management Act of 1976 statutory requirements, including description of likely forest management systems, and adds a requirement that these timber management projections in a plan are not to be considered decisions and that they may be administratively corrected. FSM 1921.17h adds requirements for special conditions or situations that involve hazards to the various resources. FSM 1921.17i adds requirements for plan guidance on restocking.

FSM 1921.18 adds requirements for establishment of performance measures and monitoring questions within land management plans and provides a cross-reference to FSM 1921.5.

FSM 1921.2 includes direction on plan evaluation and includes an exhibit showing the cycle of planning. FSM 1921.21 describes management review of evaluations and environmental management systems (EMS) information to determine if changes are needed in plan components. FSM 1921.3 includes an exhibit that shows the normal sequence of actions for plans, plan amendments, and plan revisions. FSM 1921.31 describes the need for change in plan components and FSM 1921.32 describes how to amend a plan. FSM 1921.33 describes a plan revision. FSM 1921.4 describes plan implementation and FSM 1921.5 describes plan monitoring. FSM 1921.6 describes public participation, collaboration, consultation, and notification requirements.

FSM 1921.7 describes social and economic evaluation, civil rights and environmental justice issues, ecological evaluation, ecosystem diversity, species diversity, and plan components for sustainability. This ID establishes at FSM 1921.74 that the rigor of analysis should be proportional to the level of risk to ecosystems and species. A key requirement at FSM 1921.77c states that for species-of-concern, the plan must provide for habitats that are of sufficient quality, distribution, and abundance to allow species populations to be well distributed and interactive, within the bounds of the life history, distribution, and natural population fluctuations of the species and the capability of the landscape across the plan area.

FSM 1921.8 describes the role of science in planning, including uncertainty, risk, independent peer reviews, and documentation. FSM 1921.9 provides guidance for carrying out environmental management systems.

Section 1922—Land Management Planning for 1982 Planning Rule

There are minor editorial changes within this section. The caption is changed to “Land Management Planning for 1982 Planning Rule,” previously titled “Forest Planning.”

Section 1923—Wilderness Evaluation

At FSM 1923, the term “roadless area” is changed to “potential wilderness area” to avoid confusion with the areas identified in the Forest Service Roadless Area Conservation, Final Environmental Impact Statement, Volume 2, dated November 2000. Guidance is added on what areas should be subject to evaluation based on text from the 1982 planning rule. Responsibilities are added for the Forest, Grassland, or Prairie Supervisor. Guidance is added on when a legislative environmental impact statement is required. Finally minor changes are made to text to agree with the 2004 planning rule.

Section 1924—Wild and Scenic River Evaluation

At FSM 1924, policy is added to complete legislatively mandated studies within a specified study period to clarify conditions under which previous river studies may need to be revisited. A responsibility is added for the Regional Forester to prepare legislative proposals for river proposals and one was added for Forest, Grassland, or Prairie Supervisor to approve management direction for rivers found eligible or recommended for designation. At FSM 1924.2, a section is added to provide interim management of eligible or suitable rivers. Current text at FSH 1909.12, chapter 8, section 8.12 regarding interim management of study rivers is moved to FSM 1924.2.

Section 1925—Management of Inventoried Roadless Areas

This section provides a cross-reference to another interim directive (no. 1920-2004-1) on inventoried roadless areas, which became effective on July 16, 2004.

Section 1926—Objection Process

This section provides guidance for the pre-decisional objection process, including guidance on: Computation of periods, evidence of timely filing, lead objector, dismissal of objections, time frames for resolving objections, response of reviewing officials, and maintaining records.

Section 1927—Backcountry and Primitive Areas

This section establishes a reserved code for backcountry and primitive areas for issuances of an interim directive or field supplementation.

Forest Service Handbook

FSH 1909.12—Land Management Planning Handbook

The ID to this handbook includes a change from a 1 digit chapter coding scheme to a 2 digit coding scheme. For example, chapter 9 becomes chapter 90. The current direction in chapters 1, 2, 3, 4, 5, and 6 is removed in its entirety and those chapters, with two digit coding, are revised to be consistent with the 2004 planning rule at 36 CFR part 219. Chapters 70 and 80 (formerly chapters 7 and 8), and the zero code chapter contain revisions to assure consistency with the 2004 planning rule.

Chapter 10—Land Management Plan

This chapter provides direction on what constitutes a plan and multilevel planning. A 19-page exhibit in section 11 provides examples of plan components, pre-proposal analysis, and site-specific project proposals. Section 12 includes guidance on the three parts of a plan: vision, strategy, and design criteria displayed in the plan model at http://www.fs.fed.us/emc/nfma/index.html. Section 12 includes several exhibits: Including (1) an outline of a plan and (2) a sample environmental management systems policy and (3) sample plan components. Section 13 includes guidance on the monitoring program and associated performance measures. Section 14 includes guidance on resource integration requirements for air, water, fire, recreation, heritage resources, minerals, range, travel management, and land use.

Chapter 20—The Adaptive Planning Process

This chapter provides guidance on the adaptive planning process and includes procedural steps for amending and revising plans. Section 24 describes how to review and evaluate a plan and provides guidance on evaluation report content and format. Section 25 describes how to amend or revise a plan. Section 28 describes content for the approval document for plan development, plan amendment, or plan revision. Section 29 describes the application of plan direction to projects.

Chapter 30—Public Participation, Collaboration, and Notification

This chapter provides guidance on how to do the public participation, collaboration, and notification process and describes each party's responsibilities and relationships in these processes.

Chapter 40—Science and Sustainability

This chapter provides guidance on sustainability. Section 41 is reserved to provide a location for field supplementation on the role of science. Section 42 describes social and economic sustainability and provides a framework for social and economic evaluation. Section 43 describes ecological sustainability and describes how to analyze ecosystem diversity and species diversity. The steps in the ecosystem diversity analysis include:

1. Selecting the appropriate scales;

2. Identifying the characteristics of ecosystem diversity that will be the focus of the analysis;

3. Developing information on the range of variation;

4. Describing the current condition of the selected characteristics;

5. Describing the current condition of disturbance regimes;

6. Evaluating the status of the selected characteristics of ecosystem diversity;

7. Describing risks to selected characteristics of ecosystem diversity; and

8. Developing plan components for ecosystem diversity.

The steps in the species diversity analysis include:

1. Establishing the ecosystem context for species;

2. Identifying listed species, species-of-concern, and species-of-interest;

3. Screening species-of-concern and species-of-interest for further detailed consideration in the planning process;

4. Collecting information;

5. Identifying species groups/surrogate species for analysis and management; and

6. Developing plan components for listed species, species-of-concern, and species-of-interest.

Section 43.22 provides guidance to responsible officials in identifying species-of-concern and species-of-interest. For instance, it states that the responsible official may identify species with ranks of G-1 through G-3 on the NatureServe ranking system as species-of-concern. Additionally, section 43.22b specifies how responsible officials may identify species-of-interest. For example, it states that the responsible official may identify species-of-interest with ranks of S-1 and S-2 on the NatureServe ranking system as deemed appropriate by the responsible official. Species-of-interest may include hunted, fished, and other species identified cooperatively with State fish and wildlife agencies consistent with the Sikes Act.

Chapter 50—Plan Set of Documents

This chapter provides direction on what constitutes a record, records required by the planning rule, record specifications, retention of records, and a record checklist.

Chapter 60—Forest Vegetation Resource Planning

This chapter adds guidance on timber and forest vegetation resource planning, including guidance on identifying lands generally suitable for timber production, suitability determinations at the project level, and long-term sustained-yield capacity.

Chapter 70—Wilderness Evaluation

This chapter revises terminology to be consistent with the terminology used in the 2004 planning rule. For instance, requirements for evaluation are changed from “during the development of the forest plan” to “during developing or revising a land management plan” and terms such as “roadless areas” to “areas or lands.” Changing the term “roadless areas” to “areas or lands” avoids confusion with the term “inventoried roadless areas.” “Inventoried roadless areas” are those areas identified in a set of inventoried roadless area maps, contained in Forest Service Roadless Area Conservation, Final Environmental Impact Statement, Volume 2, dated November 2000. Section 74 adds requirements for wilderness evaluation documentation and is direction previously found in section 4.19c.

Other changes are made to update the chapter, including removing outdated wording because the direction is not needed, or not applicable. For instance, at section 71.1 at paragraph 1, language discussing the statutory definition of wilderness is removed. In section 71.12, paragraph 4 pertaining to location of an area conducive to the perpetuation of wilderness values is removed. In section 72.1, (1) language discussing the range of geological, biological, or ecological strata is removed; (2) the list of activities considered for primitive and unconfined recreation is revised; (3) wording associated with outdoor education and scientific study and special scenic features is removed; and (4) wording pertaining to how boundaries affect the manageability of an area is removed.

Chapter 80—Wild and Scenic River Evaluation

This chapter revises terminology, such as the term “study report” to “study report/EIS” and updates terminology, such as, “management prescriptions” to “management direction,” and so forth. In addition, chapter 80 provides more explicit guidance for the Wild and Scenic Rivers (WSRs) study process that is consistent with a November 21, 1996, memorandum to Regional Foresters from the Directors, Ecosystem Management Coordination and Recreation, Heritage, and Wilderness Resources Staffs, Washington Office, with the U.S. Department of Agriculture-U.S. Department of the Interior Guidelines, and with the river study direction of other Federal agencies. These changes strengthen and reinforce the linkage of the river study process to land management planning. In addition, the content of original 8.12—Interim Management of Study Rivers is moved to FSM 1924.2 and combined with portions of the original section 8.2.

Regulatory Certifications

Regulatory Impact

This notice has been reviewed under USDA procedures and Executive Order (E.O.) 12866, Regulatory Planning and Review. The Office of Management and Budget (OMB) has reviewed this notice and has determined that it is substantive, nonsignificant. The ID's would not have an annual effect of $100 million or more on the economy nor adversely affect productivity, competition, jobs, the environment, public health or safety, nor State or local governments. The ID's would not interfere with an action taken or planned by another agency nor raise new legal or policy issues. Finally, the ID's would not alter the budgetary impact of entitlements, grants, user fees, or loan programs or the rights and obligations of recipients of such programs.

Moreover, the ID's have been considered in light of Executive Order 13272 regarding proper consideration of small entities and the Small Business Regulatory Enforcement Fairness Act of 1996 (SBREFA), which amended the Regulatory Flexibility Act (5 U.S.C. 601 et seq.). No direct or indirect financial impact on small businesses or other entities has been identified. Therefore, it is hereby certified that these ID's will not have a significant economic impact on a substantial number of small entities as defined by the act.

Environmental Impact

These ID's provide the detailed direction to agency employees necessary to carry out the provisions of the final 2004 planning rule adopted at 36 CFR part 219 governing land management planning. Section 31.12 of Forest Service Handbook 1909.15 (57 FR 43208; September 18, 1992) excludes from documentation in an environmental assessment or impact statement “rules, regulations, or policies to establish Service-wide administrative procedures, program processes, or instructions.” The agency's conclusion is that these ID's fall within this category of actions and that no extraordinary circumstances exist as currently defined that require preparation of an environmental assessment or an environmental impact statement.

No Takings Implications

These ID's have been analyzed in accordance with the principles and criteria contained in Executive Order 12360, Governmental Actions and Interference with Constitutionally Protected Property Rights, and it has been determined that they would not pose the risk of a taking of private property as they are limited to the establishment of administrative procedures.

Energy Effects

These ID's have been analyzed under Executive Order 13211, Actions Concerning Regulations That Significantly Affect Energy Supply, Distribution, or Use. It has been determined that they do not constitute a significant energy action as defined in the Executive order.

Civil Justice Reform

These ID's have been reviewed under Executive Order 12988, Civil Justice Reform. These ID's will direct the work of Forest Service employees and are not intended to preempt any State and local laws and regulations that might be in conflict or that would impede full implementation of these directives. The directives would not retroactively affect existing permits, contracts, or other instruments authorizing the occupancy and use of National Forest System lands and would not require the institution of administrative proceedings before parties may file suit in court challenging their provisions.

Unfunded Mandates

Pursuant to Title II of the Unfunded Mandates Reform Act of 1995 (2 U.S.C. 1531-1538), which the President signed into law on March 22, 1995, the effects of these ID's on State, local, and Tribal governments, and on the private sector have been assessed and do not compel the expenditure of $100 million or more by any State, local, or Tribal government, or anyone in the private sector. Therefore, a statement under section 202 of the act is not required.

Federalism

The agency has considered these ID's under the requirements of Executive Order 13132, Federalism. The agency has made a preliminary assessment that the ID's conform with the federalism principles set out in this Executive order; would not impose any significant compliance costs on the States; and would not have substantial direct effects on the States, on the relationship between the national government and the States, or on the distribution of power and responsibilities among the various levels of government. Moreover, these ID's address the land management planning process on National Forests, Grasslands or other units of the National Forest System, which do not directly affect the States. Based on comments received on these ID's, the agency will consider if any additional consultation will be needed with State and local governments prior to adopting final directives.

Consultation and Coordination With Indian Tribal Governments

These ID's do not have tribal implications as defined by Executive Order 13175, Consultation and Coordination with Indian Tribal Governments, and therefore, advance consultation with Tribes is not required.

Controlling Paperwork Burdens on the Public

These ID's do not contain any record keeping or reporting requirements or other information collection requirements as defined in 5 CFR part 1320 and, therefore, impose no paperwork burden on the public. Accordingly, the review provisions of the Paperwork Reduction Act of 1995 (44 U.S.C. 3501 et seq.) and implementing regulations at 5 CFR part 1320 do not apply.

Conclusion

These ID's provide consistent interpretation of the 2004 planning rule for line and staff officers, and interdisciplinary teams. As a consequence, the agency can fulfill its commitment to improve public involvement and decisionmaking associated with developing, amending, or revising a land management plan. The Forest Service has developed these planning directives to set forth the legal authorities, objectives, policy, responsibilities, direction, and overall guidance needed by Forest Service line officers, agency employees, and others to use the 2004 planning rule.

Normally, when the agency determines that public notice and opportunity to comment are necessary on a Forest Service Manual or Handbook revision, the agency publishes a notice of a proposed revision with a minimum 60-day comment period. The agency then considers the comments, makes any changes, drafts, and publishes a final Federal Register notice explaining the final directive and the rationale for any changes. At a minimum, this process takes 6 months and usually takes 9-12 months. Such a delay in issuing planning directives would perpetuate uncertainty and confusion and delay units from beginning or adjusting plan amendments or revisions with interested and affected publics.

Consequently, the agency has elected to issue interim directives and to make them immediately effective. An interim directive expires 18 months from issuance and may be reissued only once for a total duration of 36 months. Thereafter, the direction must be incorporated into an amendment or allowed to expire.

The Forest Service is committed to providing adequate opportunities for the public to comment on administrative directives that are of substantial public interest or controversy, as provided in the regulations at 36 CFR part 216. Because it is important to provide Forest Service units with interim direction to ensure consistent interpretation of the 2004 planning rule, the agency is issuing these ID's and making them effective immediately. However, pursuant to 36 CFR 216.7, the Forest Service is now also requesting public comment on these ID's.

All comments will be considered in the development of final directives. The full text of these Manuals and Handbook references are available on the World Wide Web at http://www.fs.fed.us.directives. Single paper copies are available upon request from the address and phone numbers listed earlier in this notice as well as from the nearest Regional Office, the location of which are also available on the Washington Office headquarters homepage on the World Wide Web at http://www.fs.fed.us.

Dated: March 8, 2005.
Peter J. Roussopoulos,
Acting Chief.

[FR Doc. 05-5652 Filed 3-22-05; 8:45 am]

BILLING CODE 3410-11-P